DEPARTMENT OF THE INTERIOR

Fish and Wildlife Service

[FWS-R3-ES-2013-N027; FXES11130300000F3-134-FF03E00000]

Endangered and Threatened Species; Permits

AGENCY: Fish and Wildlife Service, Interior.

ACTION: Notice of issuance of permits.

SUMMARY: We, the U.S. Fish and Wildlife Service, have issued the following permits to conduct certain activities with endangered species under the authority of the Endangered Species Act, as amended (Act).

FOR FURTHER INFORMATION CONTACT: Ms. Lisa Mandell, U.S. Fish and Wildlife Service, Ecological Services—Endangered Species, 5600 American Blvd. West, Suite 990, Bloomington, MN 55437-1458; (612) 713-5343 (phone) or lisa_mandell@fws.gov (email).

SUPPLEMENTARY INFORMATION: We have issued the following permits in response to recovery permit applications we received under the authority of section 10 of the Act (16 U.S.C. 1531 et seq.). Each permit listed below was issued only after we determined that it was applied for in good faith, that granting the permit would not be to the disadvantage of the listed species, and that the terms and conditions of the permit were consistent with purposes and policy set forth in the Act.

Applicant name | Permit No. | Date issued | Date expired
ABR, INC. | 224720 | 4/10/2012 | 12/31/2013
AHLSTEDT, STEVEN A | 113009 | 12/13/2012 | 12/31/2014
BAT CALLS IDENTIFICATION, INC. | 60958A | 2/17/2012 | 12/31/2013
BAT CONSERVATION AND MANAGEMENT, INC. | 212440 | 4/9/2012 | 12/31/2012
BENEDICT, RUSSELL A | 06820A | 5/16/2012 | 12/31/2013
BERNARDIN-LOCHMUELLER & ASSOCIATES | 06845A | 4/10/2012 | 12/31/2013
BHE ENVIRONMENTAL, INC | 38789A | 5/24/2012 | 12/31/2012
BIDART-BOUZAT, MARIA GABRIELA | 43555A | 2/22/2012 | 12/31/2013
BISHOP HILL ENERGY LLC | 71464A | 7/10/2012 | 3/1/2014
BOYLES, JUSTIN G | 82666A | 12/17/2012 | 12/31/2014
BRITZKE, ERIC R | 023666 | 10/25/2012 | 12/31/2014
BROWN, ROBERT JEFFREY | 74592A | 8/3/2012 | 12/31/2014
CARTER, TIMOTHY C | 02560A | 3/20/2012 | 12/31/2013
CARVER, BRIAN D | 48833A | 4/30/2012 | 12/31/2013
CAYLOR, MEGAN K | 71680A | 5/29/2012 | 12/31/2013
CENTER FOR BIODIVERSITY | 006012 | 4/25/2012 | 12/31/2016
CIVIL AND ENVIRONMENTAL CONSULTANTS, INC. | 07358A | 4/19/2012 | 12/31/2013
CLEVELAND METROPARKS | 66724A | 5/16/2012 | 12/31/2013
DAVEY RESOURCE GROUP | 235639 | 8/3/2012 | 12/31/2013
ECOLOGY & ENVIRONMENT, INC. | 212427 | 5/16/2012 | 12/31/2012
EGRET ENVIRONMENTAL CONSULTING, LLC | 77313A | 8/3/2012 | 12/31/2014
EMERY, SARAH MICHELLE | 43607A | 1/30/2012 | 12/31/2013
ENVIRONMENTAL SOLUTIONS AND INNOVATIONS, INC. | 02373A | 5/31/2012 | 12/31/2013
ENVIROSCIENCE, INC. | 130900 | 3/23/2012 | 12/31/2013
FERNANDO, DANILO D | 77384A | 7/30/2012 | 12/31/2014
FISHMAN, MICHAEL SAMUEL | 77310A | 10/19/2012 | 12/31/2014
FOREST PRESERVE DISTRICT OF WILL COUNTY | 71720A | 6/26/2012 | 12/31/2013
FOWLER RIDGE WIND FARM | 73598A | 7/11/2012 | 6/30/2013
GARVON, JASON MICHAEL | 38860A | 4/25/2012 | 12/31/2012
GILMORE, MARY BRIGID | 62311A | 3/7/2012 | 12/31/2013
HALE, BENJAMIN T | 71827A | 7/16/2012 | 12/31/2013
HOGGARTH, MICHAEL A. | 194099 | 4/19/2012 | 12/31/2013
ILLINOIS NATURAL HISTORY SURVEY | 73584A | 8/6/2012 | 12/31/2015
ILLINOIS NATURAL HISTORY SURVEY | 182436 | 1/4/2012 | 12/31/2012
ILLINOIS STATE MUSEUM | 10891A | 4/9/2012 | 12/31/2014
INDIANA UNIVERSITY-PURDUE UNIVERSITY FT WAYNE | 77369A | 7/25/2012 | 12/31/2013
KAPUSINSKI, DOUGLAS J | 77530A | 10/10/2012 | 12/31/2014
KLOCEK, ROGER A | 71737A | 7/11/2012 | 12/31/2013
LEWIS ENVIRONMENTAL CONSULTING, LLC | 181256 | 4/12/2012 | 12/31/2013
MAINSTREAM COMMERCIAL DIVERS, INC. | 02344A | 4/10/2012 | 12/31/2013
MALACOLOGICAL CONSULTANTS | 73128A | 7/16/2012 | 12/31/2013
MALCOSKY, MICHELLE | 08603A | 6/29/2012 | 12/31/2013
MCCLANAHAN, ROD DANIEL | 06797A | 2/16/2012 | 12/31/2013
MILLER, LEVI D | 60999A | 3/1/2012 | 12/31/2013
MISSOURI DEPARTMENT OF CONSERVATION | 71730A | 11/27/2012 | 6/30/2020
MISSOURI DEPT OF CONSERVATION | 62313A | 2/16/2012 | 12/31/2014
MORGAN, THERESA SYDNEY | 02360A | 5/29/2012 | 12/31/2013
MYERS-KINZIE, MELODY LYNN | 82665A | 10/10/2012 | 12/31/2014
OHIO DIVISION OF WILDLIFE | 65950A | 2/16/2012 | 12/31/2014
PAVLOVIC, NOEL B | 77370A | 7/30/2012 | 12/31/2014
PITTSBURGH WILDLIFE & ENVIRONMENTAL, INC. | 06801A | 5/29/2012 | 12/31/2013
REDWING ECOLOGICAL SERVICES, INC. | 151107 | 4/12/2012 | 12/31/2013
SANDERS ENVIRONMENTAL INC | 38842A | 6/13/2012 | 12/31/2014
SHAWNEE NATIONAL FOREST | 06778A | 5/7/2012 | 12/31/2013
SMITHSONIAN INSTITUTION | 06846A | 5/18/2012 | 12/31/2013
SOLUK, DANIEL A | 805269 | 7/23/2012 | 12/31/2014
ST. LOUIS ZOO | 135297 | 5/15/2012 | 12/31/2012
STANTEC CONSULTING SERVICES, INC. | 15027A | 6/13/2012 | 12/31/2013
STEFFEN, BRADLEY JAMES | 71718A | 5/29/2012 | 12/31/2013
THE NATURE CONSERVANCY | 838715 | 3/23/2012 | 12/31/2015
THE OHIO DEPARTMENT OF TRANSPORTATION | 02651A | 4/25/2012 | 12/31/2013
TIMPONE, JOHN CHARLES | 120231 | 8/24/2012 | 12/31/2014
TOMASI, THOMAS E | 195082 | 12/5/2012 | 12/31/2014
TRAGUS ENVIRONMENTAL CONSULTING, INC. | 105320 | 3/5/2012 | 12/31/2012
U.S. ARMY CORPS OF ENGINEERS | 02378A | 5/14/2012 | 12/31/2014
U.S. FISH AND WILDLIFE SERVICE | 697830 | 1/1/2012 | 12/31/2015
U.S. FISH AND WILDLIFE SERVICE | 06841A | 5/15/2012 | 11/30/2014
U.S. FISH AND WILDLIFE SERVICE | 206778 | 5/30/2012 | 12/31/2014
U.S. FOREST SERVICE | 217351 | 2/16/2012 | 12/31/2013
U.S. GEOLOGICAL SURVEY | 10887A | 7/17/2012 | 12/31/2013
UNIVERSITY OF MICHIGAN | 71819A | 6/1/2012 | 12/31/2013
UNIVERSITY OF MINNESOTA | 62334A | 3/29/2012 | 12/31/2013
U.S. ARMY CORPS OF ENGINEERS | 66634A | 8/7/2012 | 12/31/2014
U.S. GEOLOGICAL SURVEY | 207526 | 3/19/2012 | 3/31/2014
USDA FOREST SERVICE | 06809A | 12/17/2012 | 12/31/2014
VANDE KOPPLE, ROBERT J | 11035A | 6/22/2012 | 12/31/2013
VESPER ENVIRONMENTAL LLC | 74589A | 8/3/2012 | 12/31/2014
WALTERS, BRIANNE LORRAINE | 106220 | 6/14/2012 | 12/31/2012
WATTERS, GEORGE THOMAS | 088720 | 6/28/2012 | 12/31/2012
WELCH, ROBERT JOHN | 71834A | 8/9/2012 | 12/31/2014
WESTERN ECOSYSTEMS TECHNOLOGY, INC. | 234121 | 4/2/2012 | 12/31/2013
WHITBY, MICHAEL D | 62297A | 3/5/2012 | 12/31/2013
WHITTLE, JASON BOHDAN | 62286A | 3/1/2012 | 12/31/2013
WILDLIFE SPECIALISTS LLC | 66727A | 5/29/2012 | 12/31/2013
ZANATTA, DAVID T | 71821A | 7/18/2012 | 12/31/2014

Availability of Documents

Documents and other information submitted with these applications are available for review, subject to the requirements of the Privacy Act and Freedom of Information Act, by any party who submits a written requires for a copy of such documents to Lisa Mandell (see FOR FURTHER INFORMATION CONTACT).

Authority: The authority for this notice is the Endangered Species Act of 1973, as amended (16 U.S.C. 1531 et seq.).

Lynn Lewis,
Assistant Regional Director, Ecological Services, Midwest Region.

[FR Doc. 2013-02888 Filed 2-7-13; 8:45 am]

BILLING CODE 4310-55-P